DEPARTMENT OF COMMERCE

Submission For OMB Review; Comment Request

DOC has submitted to the Office of Management and Budget (OMB) for clearance the following proposal for collection of information under the provisions of the Paperwork Reduction Act (44 U.S.C. Chapter 35).

Agency: Bureau of Economic Analysis (BEA).

Title: Initial Report on a Foreign Person's Direct or Indirect Acquisition, Establishment, or Purchase of the Operating Assets of a U.S. Business Enterprise, Including Real Estate (BE-13) and Report by a U.S. Person Who Assists or Intervenes in the Acquisition of a U.S. Business Enterprise by, or Who Enters Into a Joint Venture With, a Foreign Person (BE-14).

Form Number(s): BE-13 and BE-14.

Agency Approval Number: 0608-0035.

Type of Request: Extension of a currently approved collection without any change in the substance or in the method of collection.

Burden: 1,800 hours.

Number of Respondents: 1,200.

Avg Hours Per Response: 1.5 hours.

Needs and Uses: The U.S. Government requires data from the BE-13 and BE-14 surveys to measure the amount of new foreign direct investment in the United States, monitor changes in such investment, assess its impact on the U.S. economy, and based upon this assessment, make informed policy decisions regarding foreign direct investment in the United States. State governments use the data to assess the impact of foreign direct investment on individual States, in advising foreign investors seeking to invest in the United States, and in developing State policies related to foreign direct investment. The data are also used to update data on the universe of foreign-owned U.S. affiliates on a continuous basis to ensure that it is complete, and to determine whether new affiliates exceed the exemption criteria required for reporting in related benchmark surveys, and annual and quarterly cut-off sample surveys of foreign direct investment conducted by BEA.

The data from the BE-13 survey complement data from BEA's other ongoing surveys of foreign direct investment in the United States, namely the BE-605 and BE-605 Bank quarterly surveys of transactions of U.S. affiliates with their foreign parents, and the BE-12 (benchmark) and BE-15 (annual) surveys, which provide data on the overall operations of U.S. affiliates.

Affected Public: U.S. businesses or other for-profit institutions.

Frequency: One-time survey.

Respondent's Obligation: Mandatory.

Legal Authority: Title 22 U.S.C., 3101-3108, as amended.

OMB Desk Officer: Paul Bugg, (202) 395-3093.

You may obtain copies of the above information collection proposal by calling or writing Madeleine Clayton, Departmental Forms Clearance Officer, Office of the Chief Information Officer, (202) 482-3129, Department of Commerce, Room 6086, 14th Street and Constitution Avenue, NW., Washington, DC 20230.

Send comments on the proposed information collection within 30 days of publication of this notice to Paul Bugg, OMB Desk Officer, Room 10201, New Executive Office Building, Washington, DC 20503.

Dated: October 6, 2000.
Madeleine Clayton,
Departmental Forms Clearance Officer, Office of the Chief Information Officer.

[FR Doc. 00-26196 Filed 10-12-00; 8:45 am]

BILLING CODE 3510-06-U